DEPARTMENT OF COMMERCE

National Oceanic and Atmospheric Administration

RIN 0648-XG433

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: This meeting will be held on Tuesday, September 18, 2018 at 10 a.m.

ADDRESSES: The meeting will be held at the Four Points by Sheraton, 1 Audubon Road, Wakefield, MA 01880; telephone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will review results from the 2018 herring benchmark assessment (65th Northeast Regional Stock Assessment Workshop, SAW 65). They will review public comments on the Draft Environmental Impact Statement (DEIS) for Amendment 8 to the Herring Fishery Management Plan (FMP), and discuss final preferred alternative recommendations. They will also discuss possible measures to include for consideration in the 2019-21 fishery specifications action including discussion of a potential independent action for fishing year 2019 that NOAA Fisheries may develop. A separate action may be considered to set fishery specifications for 2019 because final measures for 2019-21 developed through the Council process are not expected to be implemented until mid-year of 2019. Also on the agenda is initial discussion of potential 2019 herring work priorities. They will discuss other business as necessary.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 22, 2018.
Tracey L. Thompson,
Acting Deputy Director, Office of Sustainable Fisheries, National Marine Fisheries Service.

[FR Doc. 2018-18455 Filed 8-24-18; 8:45 am]

BILLING CODE 3510-22-P